DEPARTMENT OF ENERGY

Office of Energy Efficiency and Renewable Energy

State Energy Program Special Projects Financial Assistance

AGENCY: Department of Energy.

ACTION: Notice for 2002 State Energy Program Special Projects.

SUMMARY: As options offered under the State Energy Program (SEP) for fiscal year 2002, the Office of Energy Efficiency and Renewable Energy of the Department of Energy (DOE) is announcing the availability of financial assistance to States for a group of special project activities. Funding is being provided by a number of sector programs in the Office of Energy Efficiency and Renewable Energy. States may apply to undertake any of the projects being offered by these programs. Financial assistance will be awarded to the States separately for each special project, with the activities to be carried out in conjunction with their efforts under SEP. The special projects funding and activities are tracked separately so that the sector programs may follow the progress of their projects.

DATES: The program announcement was issued on December 20, 2001. Applications must be received by March 15, 2002.

ADDRESSES: The 2002 State Energy Program Special Projects Announcement contains complete information about this program and is available to view and/or access at the following Web site: http://www.eren.doe.gov/buildings/state_energy/pdfs/special_projects_02.pdf.

FOR FURTHER INFORMATION CONTACT: For referral to the appropriate DOE Regional Office or State Office, you may contact Mr. Eric W. Thomas, (202) 586-2242, or Ms. Faith Lambert, (202) 586-2319, at the U.S. Department of Energy Headquarters, 1000 Independence Avenue, SW., Washington, DC 20585.

SUPPLEMENTARY INFORMATION: The projects must meet the relevant requirements of the program providing the funding, as well as of SEP, as specified in the 2002 Special Projects Announcement. Among the goals of the special projects activities are to assist States to: accelerate deployment of energy efficiency and renewable energy technologies; facilitate the acceptance of emerging and underutilized energy efficiency and renewable energy technologies; and increase the responsiveness of Federally funded technology development efforts to private sector needs.

Fiscal year 2002 is the seventh year special project activities have been funded in conjunction with the State Energy Program (10 CFR part 420). Most of these State-oriented special projects are related to or based on similar efforts that have been funded separately by the various DOE sector programs that are now providing funding for these optional SEP activities.

Availability of Fiscal Year 2002 Funds

With this publication, DOE is announcing the availability of an estimated $18.5 million in financial assistance funds for fiscal year 2002. The awards will be made through a competitive process. The sector programs that are participating in the SEP Special Projects for fiscal year 2002, with the estimated amount of funding available for each, are as follows:

• Clean Cities/Alternative Fuels: Accelerating the introduction and increasing the use of alternative fuels and alternative fuel vehicles through the development of infrastructure, niche markets, and clean corridors, and by promoting the use of advanced transportation technologies ($4,500,000)

• Industrial Technologies: Implementing Industries of the Future at the State level by building partnerships among State government agencies, industry, universities and research institutions: to develop new technologies tied to Industries of the Future road maps and visions; and to utilize best practices which can improve energy efficiency, environmental performance and productivity ($3,000,000).

• Codes and Standards: Supporting States' actions to update, implement, and enforce residential and commercial building energy codes ($1,800,000).

• Rebuild America: Helping community and regional partnerships achieve their objectives through energy efficiency and energy technology solutions in buildings for K-12 schools, colleges/universities, state/local governments, commercial and multifamily housing ($2,500,000).

• Building America: Applying systems engineering approaches to the development of advanced residential buildings, including production techniques, products, and technologies that result in higher quality, energy-efficient housing. ($300,000)

• Federal Energy Management Program: Working to reduce the cost and environmental impact of government by advancing energy efficiency and water conservation, promoting the use of distributed and renewable energy, and improving utility management decisions at Federal sites. ($500,000)

• Uninterrupted Power Source (UPS): Collaborating with the States and Territories in the siting and development of hydrogen fuel cells of 1 to 5 kilowatts in size to better understand the performance, maintenance, operation, and economic viability of these systems as uninterruptable power source systems. ($200,000)

• Power Park: Determining if the Power Park concept of hydrogen production from natural gas or municipal solid waste reforming (continental U.S.) or renewable resources for islands, villages, and remote areas is economically viable as a clean technology that can co-produce hydrogen fuel for stationary hydrogen fuel cells and reciprocating engines for hydrogen fuel cell cars. ($450,000)

• Hydrogen Compressors, Storage, and Dispensers: Testing the ability of a hydrogen generation system to fuel buses and/or light and heavy duty vehicle storage tanks. ($350,000)

• Solar Powered Security: Developing photovoltaic-powered application hardware for protecting our power delivery systems (e.g. pipelines, and national grid). ($200,000)

• Solar Schools Demonstration and Educational Outreach: Incorporating new solar energy generation into the schools energy mix and incorporating learning about solar and renewables into the State educational curriculum for schools. ($300,000)

• Zero Energy Homes: Designing, building and/or showcasing one or more currently marketable Zero Energy Homes in conjunction with local partners such as homebuilders, universities, and utilities. ($200,000)

• Million Solar Roofs Initiative—Small Grant Program for State Partnerships: Assisting the Million Solar Roofs Initiative (MSR) State Partnerships in developing and implementing programs to further the use of solar energy on buildings. ($500,000)

• State Wind Energy Support: Proposals from States are sought for (1) wind resource assessment efforts to enable producing more accurate and detailed state wind maps, (2) wind resource data collection using existing tall towers (100 meters or taller preferred), and (3) activities to overcome barriers to use of small wind systems. ($770,000)

• Distributed Energy Resources Electrical Interconnection: Developing education and/or training materials (video tapes with hard copy manuals), on the process of interconnecting new Distributed Generation systems with the electrical grid (distribution and transmission levels), and permitting such installations. ($55,000)

• Distributed Energy Resources Technologies: Undertaking distributed generation projects that will support Regional and/or State restructuring activities as well as accelerating the installation of new distributed generation facilities. ($1,240,000)

• Superconductivity Program Information Dissemination and Outreach Activities to State Agencies: Encouraging activities to broaden the national effort and deliver the accomplishments of the Superconductivity Program to the State and local level. ($435,000)

• State Geothermal Energy Support: Proposals from States are sought for (1) projects that involve case studies of the benefits and costs of deployment of geothermal direct use or electric generation projects in the Western U.S.; (2) projects that involve providing public access to information about geothermal energy resources, technologies, and economics, and (3) projects that involve the creation of expert teams to conduct “trade missions” designed to inform community leaders of the potential for geothermal development in their area of the state. ($475,000)

• Energy Storage for Transmission Congestion Relief, Price Response, and System Security: Evaluating the feasibility and potential economic advantages of deferring power transmission system upgrades and relieving transmission congestion using modern electricity storage technologies. ($125,000)

• Biofuels for Power Generation: Assessing the feasibility of site-specific power projects using biofuels and/or implementing actual site-specific biopower projects. ($600,000)

Restricted Eligibility

Eligible applicants for purposes of funding under this program are limited to the 50 States, the District of Columbia, Puerto Rico, and any territory or possession of the United States, specifically, the State energy or other agency responsible for administering the State Energy Program pursuant to 10 CFR part 420. For convenience, the term State in this notice refers to all eligible State applicants. The Catalog of Federal Domestic Assistance number assigned to the State Energy Program Special Projects is 81.119. Requirements for cost sharing contributions are addressed in the December 20, 2001 program announcement for each special project activity, as appropriate. (See http://www.eren.doe.gov/buildings/state_energy/pdfs/special_projects_02.pdf). Cost sharing contributions beyond any required percentage are desirable. Any application must be signed by an authorized State official, in accordance with the program announcement.

Evaluation Review and Criteria

A first tier review for completeness will occur at the appropriate DOE Regional Office. Applications found to be complete will undergo a merit review process by panels comprised of members representing the participating end-use sector programs in DOE's Office of Energy Efficiency and Renewable Energy. The end-use sector offices select projects for funding. The Office of Building Technology Assistance then recommends project allocations to the Assistant Secretary for Energy Efficiency and Renewable Energy for final determination. DOE reserves the right to fund, in whole or in part, any, all, or none of the applications submitted in response to this notice.

Issued in Washington, DC, on January 29, 2002.
David K. Garman,
Assistant Secretary, Energy Efficiency and Renewable Energy.

[FR Doc. 02-2599 Filed 2-1-02; 8:45 am]

BILLING CODE 6450-01-P